DEPARTMENT OF HOMELAND SECURITY

Coast Guard

[USCG-2007-27857]

Recreational Boating Safety Projects, Programs and Activities Funded Under Provisions of the Transportation Equity Act for the 21st Century; Accounting of

AGENCY: Coast Guard, DHS.

ACTION: Notice.

SUMMARY: For seven fiscal years starting in 1999, the Transportation Equity Act for the 21st Century has made $5 million available to the Secretary of Homeland Security for payment of Coast Guard expenses for personnel and activities directly related to coordinating and carrying out the national recreational boating safety program. In 2005, the law was amended and the amount was increased to $5.5 million. This notice is being published to satisfy a requirement of the Act that a detailed accounting of the projects, programs, and activities funded under the national recreational boating safety program provision of the Act be published annually in the Federal Register. In this notice we have specified the amount of monies the Coast Guard has committed, obligated or expended during fiscal year 2006, as of September 30, 2006.

FOR FURTHER INFORMATION CONTACT: Jeff Ludwig, Regulations Development Manager, telephone 202-372-1062, fax 202-372-1932.

Background and Purpose: The Transportation Equity Act for the 21st Century became law on June 9, 1998 (Pub. L. 105-178; 112 Stat. 107). The Act required that of the $5 million made available to carry out the national recreational boating safety program each year, $2 million shall be available only to ensure compliance with Chapter 43 of Title 46, U.S. Code—Recreational Vessels. On September 29, 2005, the Sportfishing and Recreational Boating Safety Amendments Act of 2005 was enacted (Pub. L. 109-74; 119 Stat. 2030). This Act increased the funds available to the national recreational boating safety program from $5 million to $5.5 million annually, and stated that “not less than” $2 million shall be available only to ensure compliance with Chapter 43 of Title 46, U.S. Code—Recreational Vessels.

The responsibility to administer these funds was delegated to the Commandant of the United States Coast Guard. Subsection (c) of section 7405 of the Act directs that no funds available to the Secretary under this subsection may be used to replace funding traditionally provided through general appropriations, nor for any purposes except those purposes authorized; namely, for personnel and activities directly related to coordinating and carrying out the national recreational boating safety program. Amounts made available each fiscal year from 1999 through 2006 shall remain available until expended.

Use of these funds requires compliance with standard Federal contracting rules with associated lead and processing times resulting in a lag time between available funds and spending. The total amount of funding, transferred to the Coast Guard from the Sport Fish Restoration and Boating Trust Fund, committed, obligated, and/or expended during fiscal year 2006 for each activity is shown below.

Factory Visit Program: Funding was provided to continue the national recreational boat factory visit program, initiated in January 2001. The factory visit program currently allows contractor personnel, acting on behalf of the Coast Guard, to visit 2,000 recreational boat manufacturers each year to inspect for compliance with federal regulations, communicate with the manufacturers as to why they need to comply with federal regulations, and educate them, as necessary, on how to comply with federal regulations. ($2,105,905)

Boat Compliance Testing: Funding was provided for expansion of the boat compliance testing program whereby new manually propelled and outboard recreational boats are purchased in the open market and tested for compliance with the Federal flotation standards. The expanded program includes inboard/sterndrive boats and used boats. ($100,000)

Associated Equipment Compliance Testing: A contract was awarded to buy recreational boat “associated equipment” (e.g., starters, alternators, fuel pumps, and bilge pumps) and test this equipment for compliance with federal safety regulations. This new initiative complements the boat compliance testing program. ($150,000)

New Recreational Boating Safety Associated Travel: Travel by employees of the Office of Boating Safety was performed to carry out additional recreational boating safety actions and to gather background and planning information for new recreational boating safety initiatives. ($17,457)

Carbon Monoxide Research: Under a Memorandum of Agreement between the Office of Boating Safety and the Department of Health and Human Services, U.S. Public Health Service, Federal Occupational Health Program, funding was provided to continue investigation into identifying and classifying additional recreational boating carbon monoxide hazards. ($150,000)

Boating Accident News Clipping Service: A contract was awarded to gather daily news stories of recreational boating accidents nationally for more real time accident information and to identify accidents that may involve regulatory non-compliances or safety defects. ($37,896)

Accident Investigation Tiger Team: A contract was awarded to provide on-call expert accident investigative services for any boating accident that appeared to involve a regulatory non-compliance or safety defect. ($56,575)

Web-based Document Management System: A contract was awarded to provide web-based document management to better enable the handling of thousands of recreational boating recall cases and campaign reports. ($65,217)

Safety Decals: Emergency Radio Call Procedures Decal used to promote proper emergency radio procedures for recreational vessels were produced and distributed. These are designed to be displayed immediately adjacent to the vessel's VHF-FM marine radio and assist vessel operators in properly making emergency radio calls. ($25,810)

Low Power Radio Transmitter System: The project funded a low power travelers information radio transmitter system in the 13th Coast Guard District for continual transmission of Bar conditions and restrictions as well as boating safety information to the boating public. ($28,471)

Recreational Boating Safety (RBS) Outreach Program: Funding was provided for this program which provides full marketing, media, public information, and program strategy support to the nation-wide RBS effort. The goal is to coordinate the RBS outreach initiatives and campaigns some of which include: National Boating Under the Influence Campaign (BUI), “You're in Command. Boat Responsibly!”, PFD Wear, Vessel Safety Check Program (VSC), Boating Safety Education Courses, Propeller Strike Avoidance, Carbon Monoxide Poisoning, and other recreational boating safety issues on an as needed basis. ($1,032,258)

Virtual Reality Personal Watercraft (PWC): A virtual reality PWC was developed under contract to provide a platform to gather objective data on operator reactions to various scenarios. This information would otherwise be unobtainable or would require more costly methods and sources, due to the risk of injury to the operator as well as due to the difficulty of accurately replicating conditions for all operators. The virtual reality PWC is being used in various test scenarios to collect human factors data including the measurement of reactive movements and reaction time that will assist in making decisions or taking action to improve personal watercraft safety. The data from this effort will give greater insight into the human-machine interface related to PWC operation and will assist in the effort to attempt to reduce PWC accidents. ($50,000)

Boating Accident Report Database (BARD) Web System: BARD Web System funding enables reporting authorities in the 50 States, five U.S. Territories and the District of Columbia to manage their accident reports electronically over a secure Internet environment. The system also enables the user community to generate statistical reports that show the frequency, nature, and severity of boating accidents. FY 06 funds supported system maintenance, technical (hotline) support and formal classroom instruction for the entire user community. ($438,781)

Personnel Support: Funding was provided for personnel to support the development of new regulations, to support new contracting activities associated with the additional funding, and to monitor and manage the contracts awarded. ($573,188)

Propeller Injury Avoidance Working Group: Travel expenses were reimbursed for subject-matter experts to convene as a working group to explore ways that injuries associated with propeller strikes could be minimized. ($12,505)

National Recreational Boating Safety Program Strategic Planning: Meetings were conducted to continue strategic planning for the national recreational boating safety program. Funds were expended on meeting space, supplies, and travel expenses for members of the strategic planning panel. ($95,172)

National Recreational Boating Survey: A national recreational boating survey was conducted to obtain up-to-date statistical estimates on recreational boating. Over 25,000 surveys were completed with individuals who boated between September 2001 and September 2002. Survey findings were extrapolated to produce national, regional and State estimates of boat use as well as the characteristics of boat operators, passengers, boats, safety equipment, and the boating environment. ($118,056)

A total of $26,365,949 of the $35,000,000 made available to the Coast Guard through annual transfers of $5 million in fiscal years 1999, 2000, 2001, 2002, 2003, 2004 and 2005 has been committed, obligated or expended as of September 30, 2005. Of the $5.5 million made available to the Coast Guard in fiscal year 2006, $2,711,375 has been committed, obligated or expended and an additional $2,345,916 of prior fiscal year funds has been committed, obligated or expended, as of September 30, 2006. Therefore, a total of $31,423,240 of the $40,500,000 made available to the Coast Guard through annual transfers of $5 million in fiscal years 1999, 2000, 2001, 2002, 2003, 2004, 2005 and $5.5 million in 2006 has been committed, obligated or expended as of September 30, 2006. Of the remaining funds that have not been committed, obligated or expended, $8.1 million is being reserved for a multi-year national boating study.

Dated: April 24, 2007.
F.J. Sturm,
Captain, U.S. Coast Guard, Acting Director of Inspections and Compliance.

[FR Doc. E7-8738 Filed 5-7-07; 8:45 am]

BILLING CODE 4910-15-P